DEPARTMENT OF HOUSING AND URBAN DEVELOPMENT

[Docket No. FR-4561-N-05]

Housing Condition Assessment (Pilot Study)

AGENCY: Office of the Chief Information Officer, HUD.

ACTION: Notice.

SUMMARY: The proposed information collection requirement described below will be submitted to the Office of Management and Budget (OMB) for review, as required by the Paperwork Reduction Act of 1995. The Department is solicitating public comments on the subject proposal.

DATES: Comments Due Date: March 29, 2000.

ADDRESSES: Interested persons are invited to submit comments regarding this proposal. Comments should refer to the proposal by name and/or OMB approval number and should be sent to: Joseph F. Lackey, Jr., OMB Desk Officer, Office of Management and Budget, Room 10235, New Executive Office Building, Washington, DC 20503.

FOR FURTHER INFORMATION CONTACT: Wayne Eddins, Reports Management Officer, Department of Housing and Urban Development, 451 7th Street, Southwest, Washington, DC 20410, e-mail Wayne_Eddins@HUD.gov; telephone (202) 708-2374. This is not a toll-free number. Copies of the proposed forms and other available documents submitted to OMB may be obtained from Mr. Eddins.

SUPPLEMENTARY INFORMATION: The Department has submitted the proposal for the collection of information, as describerd below, to OMB for review, as required by the Paperwork Reduction Act (44 U.S.C. Chapter 35). The Notice lists the following information: (1) the title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the names and telephone nubmers of an agency official familiar with the proposal and of the OMB Desk Officer for the Department.

This Notice also lists the following information:

Title of Proposal: Housing Condition Assessment (Pilot Study).

OMB Approval Number: 2528-XXXX.

Form Number: None.

Description of the Need for the Information and its Proposed Use: Housing is the most basic and important part of the infrastructure in the United States and worldwide. Its direct and indirect impact on the economy and public welfare is far reaching. While increasing homeownership opportunities has benefits, it presents certain challenges to the future of housing in the United States. For example, housing production and resource utilization is stretched to meet the housing demand of a diverse and growing population. To continue to meet this demand, conventional methods need to be improved while innovative materials and methods need to rise to meet the challenge in a responsible, but competitive manner. This challenge can only be effectively met by better understanding the performance of the existing housing stock and developing improved technologies, including both design and construction practices that lead to better and more affordable homes for all Americans.

Respondents: New Collection.

Frequency of Submission: Individuals or Households.

Reporting Burden:

| Number of respondents | × | Frequency of response | × | Hours per response | = | Burden hours
Information Collection | 200 |  | 1 |  | 1 |  | 200

Total Estimated Burden Hours: 200.

Status: New.

Authority: Section 3507 of the Paperwork Reduction Act of 1995, 44 U.S.C. 35, as amended.

Dated: February 22, 2000.
Wayne Eddins,
Departmental Reports Management Officer, Office of the Chief Information Officer.

[FR Doc. 00-4642 Filed 2-25-00; 8:45 am]

BILLING CODE 4210-01-M